DEPARTMENT OF STATE

[Public Notice 5553]

Meeting of Advisory Committee on International Communications and Information Policy

Summary: The Department of State announces the next meeting of its Advisory Committee on International Communications and Information Policy (ACICIP) to be held on Thursday, October 5, 2006, from 10 a.m. to 12 p.m., in the Harry S. Truman Building of the U.S. Department of State. Admittance to the Department of State building is only by means of a pre-arranged clearance list as described in this notice.

The Department of State announces the next meeting of its Advisory Committee on International Communications and Information Policy (ACICIP) to be held on Thursday, October 5, 2006, from 10 a.m. to 12 p.m., in the Loy Henderson Auditorium of the Harry S. Truman Building of the U.S. Department of State. The Truman Building is located at 2201 C Street, NW., Washington, DC 20520.

The committee provides a formal channel for regular consultation and coordination on major economic, social and legal issues and problems in international communications and information policy, especially as these issues and problems involve users of information and communications services, providers of such services, technology research and development, foreign industrial and regulatory policy, the activities of international organizations with regard to communications and information, and developing country issues.

The meeting will be led by ACICIP Chair Mr. Richard E. Wiley of Wiley Rein & Fielding LLP. Ambassador David A. Gross, Deputy Assistant Secretary and U.S. Coordinator for International Communications and Information Policy, and other senior U.S. Government officials will address the meeting.

The main focus of this meeting will be to discuss:

1. Upcoming USG telecommunications/ICT consultations in Tokyo (October 16-18, 2006) and Beijing (October 19-20, 2006).

2. Upcoming International Telecommunication Union Plenipotentiary Conference (November 6-24, 2006).

3. Upcoming Internet Governance Forum (October 30-November 2, 2006).

4. Upcoming U.S.-India Working Group Meeting (December 14-15, 2006).

5. U.S. domestic public safety radio communications coordination in United States border regions.

Members of the public may submit suggestions and comments to the ACICIP. Submissions regarding an event, consultation, meeting, etc. listed in the agenda above should be received by the ACICIP Executive Secretary (contact information below) at least ten working days prior to the date of that listed event. They should be submitted in written form and should not exceed one page for each country (for comments on consultations) or for each subject area (for other comments). Resource limitations preclude acknowledging or replying to submissions.

While the meeting is open to the public, admittance to the Department of State building is only by means of a pre-arranged clearance list. In order to be placed on the pre-clearance list, we must receive the following information from you no later than 5 p.m. on Monday, October 2, 2006:

I. State That You Are Requesting Pre-Clearance to a Meeting

II. Provide the Following Information

1. Name of meeting and its date and time (ACICIP, October 5, 2006, 10 a.m.).

2. Visitor's full name.

3. Company/Agency/Organization.

4. Title at Company/Agency/Organization.

5. Date of birth.

6. Citizenship.

7. Type of ID visitor will show upon entry (from list below).

8. ID number on the ID visitor will show upon entry.

Send the above information to Richard W. O'Brien by fax (202) 647-0158 or e-mail o'brienrw@state.gov.

All visitors for this meeting must use the 23rd Street entrance. One of the following valid ID's bearing the number provided with your pre-clearance request will be required for admittance:

• U.S. driver's license with photo.

• Passport.

• U.S. government agency ID.

Non-U.S. government attendees must be escorted by Department of State personnel at all times when in the building.

For further information, please contact Richard W. O'Brien, Executive Secretary of the Committee, at (202) 647-4736 or o'brienrw@state.gov.

General information about ACICIP and the mission of International Communications and Information Policy at the Department of State is available at our Web site: http://www.state.gov/e/eb/adcom/c667.htm.

Dated: September 18, 2006.
Richard W. O'Brien,
ACICIP Executive Secretary, Department of State.

[FR Doc. 06-8062 Filed 9-21-06; 8:45 am]

BILLING CODE 4710-07-P